DEPARTMENT OF THE INTERIOR

Bureau of Land Management

[NM-060-2002-1110-JB]

Cedar Hills Road Closure and Proposed Transportation Plan/Route Designations for the Cedar Hills Mule Deer Management Area

AGENCY: Bureau of Land Management, Interior.

ACTION: Notice of closure.

SUMMARY: The Roswell Field Office proposes to protect resource values in the Cedar Hills Mule Deer Management Area by developing a transportation plan that includes route designations and road and trail closures. This action is in accordance with the 1997 Roswell Resource Management Plan. The route plan is necessary to reduce the impact from recreationist to wildlife, wildlife habitat, soils, and range improvements.

DATES: Those wishing to submit comments to the BLM on this proposal must do so at the appropriate address below on or before October 28, 2002. BLM will not consider any comments received after the above date in making its decision on the final transportation plan.

ADDRESSES: Bureau of Land Management, Roswell Field Office, Attention Rand French, 2909 West Second, Roswell, New Mexico, 88201. Internet e-mail: randfrench@blm.gov.

FOR FURTHER INFORMATION CONTACT: Rand French at the address listed above, telephone number (505) 627-0266, during normal business hours (7:45 a.m to 4:30 p.m Mountain Time).

SUPPLEMENTARY INFORMATION:

I. Public Comment Procedures

II. Background

III. Procedural Matters

I. Public Comment Procedures

Comments on the proposed transportation plan/route designations, should be specific, should be confined to issues pertinent to the proposal, and should explain the reason for any recommended change. Where possible, comments should reference the specific section or paragraph of the proposal that is being addressed. BLM may not necessarily consider or include in the Administrative Record for the final transportation plan comments that are received after the close of the comment period (see DATES) or comments delivered to an address other than those listed above (see ADDRESSES).

BLM will make the comments received, including your name and address, available for public review at the Roswell Field Office address listed in ADDRESSES above during regular business hours (hours listed above).

Under certain conditions, BLM can keep personal information confidential. If you wish to have personal information withheld, please state your request for confidentiality at the beginning of your comment. BLM will consider withholding your name, street address, and other identifying information on a case-by-case basis to the extent allowed by law. BLM will make available to the public all submissions from organizations and businesses and from individuals identifying themselves as representatives of officials of organizations or businesses.

II. Background

The authority for the proposed activities is under 43 CFR part 8342, which provides for the designation of roads and trails to protect resources of the public land. This section goes on to require public participation, designation, and identification of designated areas and trails. Public meetings have been completed. Public participants were also involved in the NEPA process and were given a chance to comment on the Environmental Assessment. The RMP constitutes the formal designation process for off-highway vehicles. This notice will serve as public notice for the official designation and identification of specific roads and trails in the Cedar Hills Mule Deer Management Area. Appropriate informational material will be provided and available to the public at the BLM office and on site.

The Cedar Hill area is located approximately 35 miles northwest of Roswell, New Mexico, along New Mexico Highway 246 (also known as Pine Lodge Road). There is one legally accessible road off of the highway into the area. This road serves as the main access into the Cedar Hill area as well as access to a private residence located on the west side of the area. Land ownership in the area consists of 4,145 acres of Public Land administered by the Bureau of Land Management Roswell Field Office, 740 acres of State land administered by the New Mexico State Land Office, and 1,775 acres of private land owned by Mike and Jennifer Corn. Mark Marley owns a very small parcel of private land on the south end in the Salt Creek area.

The Cedar Hill area is unique because of the soils and vegetation found there are substantially different from that of much of the surrounding area. Sand shinnery oak, juniper trees, and sumac vegetation differentiate this area from its surroundings. Also within the area is the Salt Creek drainage, where vegetation such as desert willow, black walnut, and hackberry are found and which further defines the area. West of the Salt Creek, upland grassland vegetation typical of shallow soil rangelands of southeast New Mexico exists.

The Cedar Hill area is utilized by the public for hunting, wildlife viewing, historic artifact hunting, camping, wood collecting, and other recreational uses. Some of these activities are permitted and legal, while others occur in violation of laws and regulations. Damage to the area is occurring from the proliferation of vehicle routes due to public use. Each year, especially during the legal deer hunts, off-road driving develops new trails. Once a vehicle leaves an established road and leaves evidence of traffic, other people follow the trail and a new road is established. This leads to accelerated soil erosion in the area and disrupts wildlife and their habitat. Duplicate routes exist leading to the same destination as other roads, and some trails have no apparent destination and merely dead end. Vehicle traffic on roads that follow the path of water pipelines may also damage the pipe, which disrupts water supplies for livestock and wildlife.

Livestock grazing is permitted on Public and State lands to Mike and Jennifer Corn. The Corns are responsible for maintenance of existing range improvements within the area. These improvements are water pipelines, drinking troughs, and fences to facilitate management of the livestock. The water related improvements benefit wildlife as well as livestock by providing a permanent source of water.

Instances where water pipelines or drinking troughs are damaged from vandalism or by vehicle traffic are costly. This is in terms of the expense involved to repair the damage as well as needless suffering by livestock and wildlife that are dependent on the water.

The private landowner and grazing permittee approached the BLM in 1999 about managing the public use of the area, and possibly closing some of the roads and trails. During the 2000 deer hunt, the BLM installed a sign at the entrance to the area, which included a map and text explaining legal use in the area and allowable use by motorized vehicles. A patrol of the area was also initiated during the hunting season to curtail off-road driving. These actions have led to more awareness by the public; however, a long-term access plan for the area needs to be developed. In order to facilitate the long-term plan, the BLM inventoried and mapped all of the existing roads and trails in the spring of 2001.

III. Procedural Matters

Executive Orders

The proposed road closures are not a significant regulatory action and are not subject to review by the Office of Management and Budget under Executive Order 12866. Implementation of the action will not have an effect of $100 million or more on the economy. They are not intended to affect commercial activity, but contain rules of conduct of public land and protect public resources. The proposed road closures will not create inconsistencies or otherwise interfere with an action taken or planned by another agency.

Executive Order 12630, Governmental Actions and Interference With Constitutionally Protected Property Rights

The closures do not represent a Government action capable of interfering with constitutionally protected property rights. The closures do not address property rights in any form, and do not cause impairment of anyone's property rights. Access to private property will be maintained and authorized vehicles may be permitted by the BLM. Therefore, the Department of the Interior has determined that the closures would not cause a taking of private property or require further discussion of taking implications under this Executive Order.

Executive Order 13132, Federalism

The road closures will not have a substantial direct effect on States, on the relationship between the national Government and the States, or on the distribution of power and responsibilities among various levels of Government. The closures affect land in only one State, New Mexico, and do not address jurisdictional issues involving the State government. Therefore, in accordance with Executive Order 13132, BLM has determined that these proposed road closures do not have sufficient Federalism implications to warrant preparation of a Federal Assessment.

Executive Order 12988, Civic Justice Reform

Under Executive Order 12988, BLM has determined that these closures would not unduly burden the judicial system and that they meet the requirements of sections 3(a) 3(b)(2) of the order.

National Environmental Policy Act (NEPA)

BLM has prepared an environmental assessment (EA) and has found that the proposed road and trail closures would not constitute a major Federal action significantly affecting the quality of the human environment under section 102(2)(c) of the Environmental Protection Act of 1969 (NEPA), 42 U.S.C. 4332(2)(C). The proposed road and trail closures are for the purpose of protecting natural resources, while still providing recreational uses. BLM has sent the EA and Finding of No Significant Impact (FONSI) out for public review and comment.

Small Business Regulatory Enforcement Fairness Act (SBREFA)

The road and trail closures do not constitute a “major rule” as defined at 5 U.S.C. 804(2). Again, the closures are only closing unnecessary roads and trails or those causing resource damage. Access to the area will still be available. The closing of certain roads and trails will not have a significant affect on business, commercial, or industrial use of the public lands.

Unfunded Mandates Reform Act

The road and trail closures do not impose an unfunded mandate on State, local, or tribal governments or the private sector; nor do these closures have a significant or unique effect on State, local, or tribal governments or the private sector. The closures do not require anything of State, local, or tribal governments. Therefore, BLM is not required to prepare a statement containing the information required by the Unfunded Mandates Reform Act (2 U.S.C. 1531 et seq.).

Paperwork Reduction Act

These closures do not contain information collection requirements that the Office of Management and Budget must approve under the Paperwork Reduction Act, 44 U.S.C. 3501 et seq.

Author

The principal author of these closures is Rand French of the Roswell Field Office, Bureau of Land Management, and Department of the Interior.

Dated: June 17, 2002.
Ron Wenker,
Acting Associate State Director.

Under the authority of 43 CFR part 8342, the New Mexico State Director proposes the road closures for the Cedar Hills Deer Management Area to read as follows:

Cedar Hills Road Closure and Transportation Plan

Sec. 1 Lands Affected by the Closures and Transportation Plan

The transportation plan and road closures apply to approximately 4,145 acres of Public Land administered by the Bureau of Land Management, Roswell Field Office, 740 acres of State land administered by the New Mexico State Land Office, and 1,775 acres of private lands owned by Mike and Jennifer Corn. The Roswell Approved Resource Management Plan and Record of Decision of October 1997 established the designation of roads. The legal description of the affected lands is as follows:

New Mexico Principal Meridian

T. 8 S., R. 20 E.,

Sections 4, 8, 9, 10, 15, 17, 20, 21, and 22.

[FR Doc. 02-24468 Filed 9-25-02; 8:45 am]

BILLING CODE 4310-FB-P